SMALL BUSINESS ADMINISTRATION

[Declaration of Disaster #3545]

State of North Carolina

As a result of the President's major disaster declaration on September 18, 2003, I find that Beaufort, Bertie, Brunswick, Camden, Carteret, Chowan, Craven, Currituck, Dare, Edgecombe, Gates, Halifax, Hertford, Hyde, Jones, Martin, New Hanover, Northampton, Onslow, Pamlico, Pasquotank, Pender, Perquimans, Pitt, Tyrrell and Washington in the State of North Carolina constitute a disaster area due to damages caused by Hurricane Isabel occurring on September 18, 2003 and continuing. Applications for loans for physical damage as a result of this disaster may be filed until the close of business on November 17, 2003 and for economic injury until the close of business on June 18, 2004 at the address listed below or other locally announced locations:

U.S. Small Business Administration, Disaster Area 2 Office, One Baltimore Place, Suite 300, Atlanta, GA 30308.

In addition, applications for economic injury loans from small businesses located in the following contiguous counties may be filed until the specified date at the above location: Bladen, Columbus, Duplin, Franklin, Greene, Lenoir, Nash, Sampson, Warren and Wilson in the State of North Carolina; Horry County in the State of South Carolina; and Brunswick, Greensville, Southampton counties and the Independent Cities of Chesapeake, Norfolk, Portsmouth, Suffolk, and Virginia Beach in the Commonwealth of Virginia.

The interest rates are:

| Percent
For Physical Damage:
Homeowners with Credit Available Elsewhere | 5.125
Homeowners without Credit Available Elsewhere | 2.562
Businesses with Credit Available Elsewhere | 6.199
Businesses and Non-Profit Organizations without Credit Available Elsewhere | 3.100
Others (Including Non-Profit Organizations) with Credit Available Elsewhere | 5.500
For Economic Injury:
Businesses and Small Agricultural Cooperatives without Credit Available Elsewhere | 3.100

The number assigned to this disaster for physical damage is 354508. For economic injury the number is 9W9700 for North Carolina; 9W9800 for South Carolina; and 9W9900 for Virginia.

(Catalog of Federal Domestic Assistance Program Nos. 59002 and 59008)
Dated: September 22, 2003.
Cheri L. Cannon,
Acting Associate Administrator for Disaster Assistance.

[FR Doc. 03-24544 Filed 9-26-03; 8:45 am]

BILLING CODE 8825-01-P